DEPARTMENT OF THE INTERIOR

National Park Service

[NPS-WASO-NAGPRA-NPS0035778; PPWOCRADN0-PCU00RP14.R50000]

Notice of Inventory Completion: U.S. Army Corps of Engineers, Mobile District, Mobile, AL

AGENCY: National Park Service, Interior.

ACTION: Notice.

SUMMARY: In accordance with the Native American Graves Protection and Repatriation Act (NAGPRA), the U.S. Army Corps of Engineers, Mobile District, has completed an inventory of human remains and associated funerary objects and has determined that there is a cultural affiliation between the human remains and associated funerary objects and Indian Tribes or Native Hawaiian organizations in this notice. The human remains and associated funerary objects were removed from Clay and Lowndes Counties, MS.

DATES: Repatriation of the human remains and associated funerary objects in this notice may occur on or after June 5, 2023.

ADDRESSES: Ms. Alexandria Smith, U.S. Army Corps of Engineers, Mobile District, 109 St. Joseph Street, P.O. Box 2288, Mobile, AL 36628-0001, telephone (251) 690-2728, email Alexandria.N.Smith@usace.army.mil.

SUPPLEMENTARY INFORMATION: This notice is published as part of the National Park Service's administrative responsibilities under NAGPRA. The determinations in this notice are the sole responsibility of the U.S. Army Corps of Engineers, Mobile District. The National Park Service is not responsible for the determinations in this notice. Additional information on the determinations in this notice, including the results of consultation, can be found in the inventory or related records held by the U.S. Army Corps of Engineers, Mobile District.

Description

Human remains representing, at minimum, 40 individuals were removed from Clay County, MS. The Kellogg Village site (22CL527) was located in the Divide Cut Section of the Tennessee Tombigbee Waterway, and contained Middle Archaic, Woodland, and Mississippian components. The site was excavated by the Department of Anthropology, Mississippi State University under principal investigator James R. Atkinson and field director G. Gerald Berry, between June 29 and September 16, 1978. The age and sex of the individuals are undetermined. No known individuals were identified. The 391 associated funerary objects are 36 lots consisting of soil samples, one burned bone, 66 lots consisting of ceramics, 77 lots consisting of shells, 57 lots consisting of unmodified stones, 85 faunal remains, three intact vessels, four fired clay, five lots consisting of miscellaneous stone/chert, two lots consisting of mixed fill, 11 lithics, five beads, four shell gorgets, one lot consisting of stone/shell fill, one lot consisting of organics/botanicals, four flotation samples, 11 projectile points, one sandstone cobble, one C-14 sample, one firecracked rock, five lots consisting of chipped/miscellaneous stones from pit fill, four lots consisting of burial fill, one groundstone, two conch shell dipper/cups, one fired clay ball, and two celts.

Human remains representing, at minimum, three individuals were removed from Clay County, MS. The Yarborough Site (22CL814) is a small settlement with a midden area containing Late Gulf Formation Stage components, with evidence of a farmstead during the Late Mississippian, Sorrells Phase. The site was excavated by the Office of Archaeological Research, University of Alabama under the direction of Carey B. Oakley, principal investigator, and Carlos Solis, project director. A small number of human skeletal fragments were collected and at least one burial was designated. The age and sex of the individuals are undetermined. No known individuals were identified. The 10 associated funerary objects are three lots consisting of botanicals, five lots consisting of soil samples, one lot consisting of mixed stone, and one lot consisting of lithics.

Human remains representing, at minimum, 30 individuals were removed from Lowndes County, MS. The Shell Bluff site (22LO530) is a shell midden and base camp with Late Woodland and Miller III components. The site was excavated by the University of Southern Mississippi under principal investigators Drs. David Heisler and Robert Gilbert and field directors Thomas Padgett and Don Crusoe in July and August of 1979 and completed mid-October through late November 1979. The age and sex of the individuals are undetermined. No known individuals were identified. The 345 associated funerary objects are 64 lots consisting of ceramics, 28 lots consisting of shells, 13 lots consisting of daub, 52 lots consisting of lithics, 78 lots consisting of soil samples, 36 lots consisting of faunal remains, two projectile points, one chert pebble, 18 lots consisting of firecracked rock, six lots consisting of burial fill, three lots consisting of unsorted screen material, six pebbles, 18 pollen samples, three C-14 samples, three fired clay, two lots consisting of grinding stone fragments, two lots consisting of ferrous sandstone, three chert cores, one lot consisting of unmodified rock, one hammerstone fragment, three sandstone, one pipe stem fragment, and one lot consisting of preform.

Human remains representing, at minimum, nine individuals were removed from Lowndes County, MS. The Vaughn Mound site (22LO538) has Middle Archaic, Woodland, Miller III, and Miller IV components. The site was identified by Marc D. Rucker as part of a field survey and was excavated by the Mississippi State University's Department of Anthropology under Rucker's direction, with the assistance of James R. Atkinson and Michael D. Walls, over 10 weeks during the summer of 1973. The age and sex of the individuals are undetermined. No known individuals were identified. The 47 associated funerary objects are one lot consisting of firecracked rock, two lots consisting of daub, 14 lots consisting of faunal remains, six lots consisting of shells, one lot consisting of sandstone, 12 lots consisting of soil samples, three pebbles, two lithics, two clay, one possible scooping tool, one sandstone grinding stone, one shell ornament, and one lot consisting of unmodified rock.

Human remains representing, at a minimum, 15 individuals were removed from Lowndes County, MS. The Tibbee Creek site (22LO600) has components from the early Gulf Formational through the Mississippian with the most concentrated occupation during the late Woodland Miller III phase. The site was excavated by the Department of Anthropology, Mississippi State University under the direction of Crawford Blakeman, Principal Investigator, and John O'Hear, Project Director and later Principal Investigator, beginning in November 1976. The site was completed in August 1977. The age and sex of the individuals are undetermined. No known individuals were identified. The 189 associated funerary objects are 43 lots consisting of faunal remains, 21 lots consisting of lithics, 31 lots consisting of ceramics, 46 lots consisting of shells, two lots consisting of firecracked rock, eight lots consisting of charcoal samples, six lots consisting of unmodified stones, two lots consisting of screened fill, one projectile point, three lots consisting of clay, one seed/corn cob, one chert drill, one stone sphere, one bone ornament, four flotation samples, one lot consisting of pit fill, two pebbles, one grooved stone, one sandstone, one acorn, seven lots consisting of unsorted fill, one turtle shell, one organic material, one wood/charcoal flotation, one bead, and one drilled bear canine.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, other relevant information, and expert opinion.

Determinations

Pursuant to NAGPRA and its implementing regulations, and after consultation with the appropriate Indian Tribes and Native Hawaiian organizations, the U.S. Army Corps of Engineers, Mobile District has determined that:

• The human remains described in this notice represent the physical remains of 97 individuals of Native American ancestry.

• The 982 objects described in this notice are reasonably believed to have been placed with or near individual human remains at the time of death or later as part of the death rite or ceremony.

• There is a relationship of shared group identity that can be reasonably traced between the human remains and associated funerary objects described in this notice and The Chickasaw Nation and The Choctaw Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 5, 2023. If competing requests for repatriation are received, the U.S. Army Corps of Engineers, Mobile District, must determine the most appropriate requestor prior to repatriation. Requests for joint repatriation of the human remains and associated funerary objects are considered a single request and not competing requests. The U.S. Army Corps of Engineers, Mobile District, is responsible for sending a copy of this notice to the Indian Tribes identified in this notice.

Authority: Native American Graves Protection and Repatriation Act, 25 U.S.C. 3003, and the implementing regulations, 43 CFR 10.9, 10.10, and 10.14.

Dated: April 25, 2023.
Melanie O'Brien,
Manager, National NAGPRA Program.

[FR Doc. 2023-09582 Filed 5-4-23; 8:45 am]

BILLING CODE 4312-52-P